DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested and the petitioner's arguments in favor of relief.

Massachusetts Bay Transportation Authority

[Docket Number FRA-2000-8044]

Massachusetts Bay Transportation Authority (MBTA) seeks to resubmit a petition for reconsideration of a temporary waiver of compliance with the Railroad Safety Appliance Standards, 49 CFR 231.12(c)(4), which requires passenger car end handholds be securely fastened with bolts or rivets. MBTA states that the end handholds on their Bombardier and Kawasaki fleets of passenger coaches, as currently configured, are fastened with bolts to a slotted block that is welded to the end sill during the manufacturing process.

MBTA states that there are 146 Bombardier coaches in service since 1987-90 with no recorded failures, accidents, or injuries attributable to either the end handhold or the welded mounted blocks. There are 75 Kawasaki coaches that have been in service since 1990-91 and 17 in service since 1998 with no reported injuries attributable to the handhold or mounting blocks used to secure them.

MBTA reports having performed a recent inspection of both fleets, with no defects in the welds securing the mounting blocks being detected. In addition, MBTA states that the weldment is inspected daily in accordance with the MBTA's Commuter Rail Maintenance Sheets, CRM-12, Daily Trip Inspection. In the event a defect is noted, the coach would immediately be removed from service with written notification to the local FRA Office. A remedial action plan would be developed with concurrence from FRA to ensure the repair meets or exceeds the standard of the original design. MBTA states that they are at 100% utilization of their coach fleet and removing these cars from service, for retrofit, would impose an undue financial burden without substantially improving safety. They submit that of the four possible retrofits they have considered the least expensive would cost approximately $125,000.00.

This request includes 146 Bombardier coaches numbered 350-389, 600-653, 1600-1652, excluding coach 1648 and 92, Kawasaki coaches numbered 700-749, 1700-1724 and 750-766. The coaches would remain in service until they receive their mid-life overhaul, when a modification would be engineered. For the 146 Bombardier coaches, this is tentatively scheduled for July 2002 and the Kawasaki coaches for July 2004. On November 24, 2000, a letter of denial was forwarded to MBTA (Docket FRA-2000-8044-3). At that time, FRA had determined insufficient information was presented, particularly, in regards to repairs. FRA has indicated to the petitioner that the agency is willing to consider an interim waiver to cover welded securement until an industry standard has been approved and adopted by the industry and FRA. FRA requested that MBTA's petition include information detailing a quality control process for repairing the weldment in the event of damage or failure.

On April 2, 2001, MBTA resubmitted a petition for interim waiver of compliance of Railroad Safety Appliances Standards, 49 CFR 231.12 (Docket FRA-2000-8044-4). The coaches for which the waiver is requested are currently in service and are used to provide commuter rail service throughout Massachusetts. MBTA is resubmitting this petition for interim waiver with the information by incorporating ATPA's proposed “Repair Procedure for Welded Support Brackets,” as the standard for repair of the end handholds, thus insuring American Welding Society (AWS) certified repair methods.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8044) and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at ­ http://dms.dot.gov.

Issued in Washington, DC on January 2, 2002.
Grady C. Cothen, Jr.,
Deputy Associate Administrator for Safety Standards and Program Development.

[FR Doc. 02-310 Filed 1-4-02; 8:45 am]

BILLING CODE 4910-06-P